DEPARTMENT OF TRANSPORTATION

Federal Aviation Administration

[Docket No. 2011-0786]

Notice of FAA Intent To Carry Over Airport Improvement Program (AIP) Entitlement Funds

AGENCY: Federal Aviation Administration, DOT.

ACTION: Notice.

SUMMARY: By 12 p.m. prevailing local time on Friday, August 12, 2011, airport sponsors eligible to receive entitlement funds under the Airport Improvement Program (AIP) must notify, in writing, the designated representative in the appropriate FAA Regional or Airports District Office if they intend to submit a final grant application in support of eligible projects with their fiscal year 2011 and/or prior-year entitlement funds. This notice must address all entitlement funds apportioned for fiscal year 2011, regardless of whether the FAA has authority to obligate those funds. After that deadline, the FAA will carry over all remaining entitlement funds, and the funds will not be available again until at least the beginning of fiscal year 2012. This notification requirement does not apply to non-primary airports covered by the block-grant program.

FOR FURTHER INFORMATION CONTACT: Mr. Frank J. San Martin, Manager, Airports Financial Assistance Division, APP-500, on (202) 267-3831.

SUPPLEMENTARY INFORMATION:

Availability of Documents

You can get an electronic copy of this policy and all other documents in this docket using the Internet by:

(1) Searching the Federal eRulemaking portal (http://www.regulations.gov/search);

(2) Visiting the FAA's Regulations and Policies Web page at http://www.faa.gov/regulations_policies; or

(3) Accessing the Government Printing Office's Web page at http://www.gpoaccess.gov/index.html.

You can also get a copy by sending a request to the Federal Aviation Administration, Airports Financial Assistance Division, Office of Airport Planning and Programming, 800 Independence Avenue, SW., Washington, DC 20591, or by calling (202) 267-3831. Make sure to identify the docket number, notice number, or amendment number of this proceeding.

Title 49 of the United States Code, Chapter 471, allows the FAA to grant apportioned or entitlement funds to eligible airport sponsors in support of eligible projects. Chapter 471 also allows the FAA to defer or carry over such grants to the following year. In such cases, the FAA converts the current-year funds to AIP discretionary funds, and then protects an equal amount of funding to be available to the sponsor in the following year, subject to legislative action to give the FAA both legal authority to issue grants and an appropriation of funds.

Over the five fiscal years from 2003 through 2007, the FAA converted entitlements averaging just over $450 million annually, representing approximately 13 percent of the overall amount appropriated for AIP. Beginning in fiscal year 2008, that percentage increased sharply, to an annual average closer to $600 million, representing approximately 18 percent of the amount appropriated for AIP.

Chapter 471 requires the FAA to establish a deadline for sponsors to notify the FAA of their intention to request a grant using their available entitlement funds. The FAA has historically established May 1 as the deadline for sponsor notification. By the end of July in each of the fiscal years from 2006 through 2010, the FAA has historically been able to convert at least $400 million in entitlement funds based on sponsor requests.

On February 3, 2011, the FAA published a notice in the Federal Register (23 FR 6178), establishing May 1, 2011 as the notification deadline. However, as of July 20, 2011 (with about 10 weeks remaining in the fiscal year), the FAA has been able to convert only about $120 million in carryover based on sponsor notifications. This represents a significantly slower rate of carryover conversion.

As the end of the fiscal year approaches, it will quickly become difficult to convert further carryover funds to discretionary in sufficient time to obligate the funds. The FAA recognizes the unique circumstances that many sponsors face due to the series of short-term extensions of the FAA's authorizing legislation, which has prevented the FAA from making apportioned AIP funds fully available during FY 2011. The FAA also recognizes that in many cases, sponsors have been awaiting access to the full amount of entitlement funds. In other cases, sponsors have been waiting in the hope of securing AIP discretionary or state apportionment funds.

Therefore, the FAA is hereby notifying sponsors about steps required to ensure that the FAA has sufficient time to carryover and convert remaining entitlement funds, due to processes required under federal and local laws. The FAA is hereby notifying all sponsors that by 12 p.m. prevailing local time on Friday, August 12, 2011, they must submit written notice to the appropriate FAA office if they intend to submit a final grant application in support of eligible projects with its fiscal year 2011 or prior-year entitlement funds. This notice must address all apportioned for fiscal year 2011, regardless of whether the FAA has authority to obligate those funds. After that deadline, the FAA will carry over all remaining entitlement funds, and the funds will not be available again until at least the beginning of fiscal year 2012. This notification requirement does not apply to non-primary airports covered by the block-grant program.

In addition, the FAA is also reminding sponsors that the February 3, 2011 Federal Register notice established August 1, 2011 as the deadline to submit a grant application. In light of the protracted uncertainty about the program, the FAA is hereby revising that deadline to Friday, August 12, 2011. The FAA urges sponsors who cannot meet this deadline for grant applications to contact the designated representative in the appropriate Airports Regional or District Office.

The FAA is also notifying sponsors who have requested but not received AIP discretionary funding in fiscal year 2011 that they must contact the designated representative in the appropriate Airports District Office or Regional Office. The FAA will advise such sponsors if it is unlikely that the FAA can fulfill those funding requests in fiscal year 2011, enabling such sponsors to make timely decisions about their fiscal year 2011 entitlement funds.

In the absence of either a final grant application or written notification from the sponsor stating their intent to use fiscal year 2011 entitlement funds, the FAA will carry over all remaining entitlement funds, and the funds will not be available again until at least the beginning of fiscal year 2012.

Issued in Washington, DC on July 22, 2011.
Frank J. San Martin,
Manager, Airports Financial Assistance Division, Office of Airport Planning and Programming.

[FR Doc. 2011-18943 Filed 7-26-11; 8:45 am]

BILLING CODE 4910-13-P